DEPARTMENT OF COMMERCE

Technology Administration

Announcement of Public Meeting on Existing Public and Private High-Tech Workforce Training Programs in the United States

AGENCY: Technology Administration, Commerce.

ACTION: Notice of public meeting.

SUMMARY: Notice is hereby given that a public meeting will be held on Tuesday November 20, 2001, 10:00 a.m. in the Technology Administration, Technology Center, U.S. Department of Commerce, Room 4813. Sections 115(a) and 115(b) of the American Competitiveness in the Twenty-First Century Act of 2000 (Public Law 106-313) require the Secretary of Commerce to conduct a study and prepare a report to Congress on existing public and private high-tech workforce training programs in the United States. In connection with this study and report, this public meeting is intended to provide an opportunity for individuals to offer comments on information technology (IT) workforce training.

The study and report will focus on the education and training paths and programs through which workers prepare for highly skilled IT jobs, and maintain the skills needed in an ever-changing IT environment. The study and report will explore: IT worker demand in terms of education and skill requirements, employer role in IT worker training, the IT education and training program landscape, including what education and skills various models of IT worker training program provide; and key elements for program success. Interested parties may include employers, IT workers, education/training providers, state and local governments, and area/regional training partnerships.

DATES: Tuesday, November 20, 2001, 10 a.m.

ADDRESSES: Technology Center, Technology Administration, U.S. Department of Commerce, 14th Street and Constitution Avenue, NW., Room 4813, Washington, DC 20230.

FOR FURTHER INFORMATION CONTACT: Individuals who wish to attend this public meeting should contact Carol Ann Meares, Technology Administrations, U.S. Department of Commerce, Room 4823, Washington, DC 20230. Telephone (202) 482-0940, or e-mail cmeares@ta.doc.gov.

Dated: September 4, 2001.
Bruce Mehlman,
Assistant Secretary of Commerce for Technology Policy.

[FR Doc. 01-22632 Filed 9-7-01; 8:45 am]

BILLING CODE 3510-18-M